ENVIRONMENTAL PROTECTION AGENCY

40 CFR Part 52

[EPA-R06-OAR-2014-0754; FRL-9921-93-Region 6]

Approval and Promulgation of Implementation Plans; Texas and Oklahoma; Regional Haze State Implementation Plans; Interstate Transport State Implementation Plan To Address Pollution Affecting Visibility and Regional Haze; Federal Implementation Plan for Regional Haze and Interstate Transport of Pollution Affecting Visibility; Extension of Comment Period

AGENCY: Environmental Protection Agency (EPA).

ACTION: Proposed rule; extension of comment period.

SUMMARY: In the December 16, 2014 Federal Register the Environmental Protection Agency (EPA) requested comments by February 17, 2015 on a proposed rule pertaining to the Regional Haze and interstate visibility transport requirements for Texas and the Regional Haze requirements for Oklahoma. We also proposed a Federal Implementation Plan to correct deficiencies identified in the plans. EPA is extending the public comment period for this proposal until April 20, 2015.

DATES: Written comments must be received on or before April 20, 2015.

ADDRESSES: Submit your comments, identified by Docket No. EPA-R06-OAR-2014-0754, by one of the following methods:

• Federal e-Rulemaking Portal: http://www.regulations.gov. Follow the online instructions for submitting comments.

• Email: R6_TXOKRegionalHaze@epa.gov.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays, and not on legal holidays. Special arrangements should be made for deliveries of boxed information.

• Fax: Mr. Guy Donaldson, Chief, Air Planning Section (6PD-L), at fax number 214-665-7263.

Instructions: Direct your comments to Docket No. EPA-R06-OAR-2014-0754. Our policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means we will not know your identity or contact information unless you provide it in the body of your comment. If you send an email comment directly to us without going through www.regulations.gov your email address will be automatically captured and included as part of the comment that is placed in the public docket and made available on the Internet. If you submit an electronic comment, we recommend that you include your name and other contact information in the body of your comment and with any disk or CD-ROM you submit. If we cannot read your comment due to technical difficulties and cannot contact you for clarification, we may not be able to consider your comment. Electronic files should avoid the use of special characters, any form of encryption, and be free of any defects or viruses.

Docket: The index to the docket for this action is available electronically at www.regulations.gov and in hard copy at EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Joe Kordzi, 214-665-7186, kordzi.joe@epa.gov. To inspect the hard copy materials, please schedule an appointment with Mr. Kordzi or Mr. Bill Deese at 214-665-7253.

SUPPLEMENTARY INFORMATION: Throughout this document wherever “we,” “us,” or “our” is used, we mean the EPA. On December 16, 2014, we published in the Federal Register a proposed rule pertaining to regional haze and interstate transport of pollution affecting visibility (79 FR 74818). Specifically, we proposed to (1) partially approve and partially disapprove revisions to the Texas SIP pertaining to regional haze and disapprove revisions regarding visibility protection, (2) disapprove a revision to the Oklahoma SIP pertaining to regional haze, and (3) establish a FIP to remedy these deficiencies. The proposed FIP would implement SO2 emission limits on fifteen Texas air pollution sources. In the proposal we requested comments by February 17, 2015.

We received several requests for an extension of the comment period and, in response, have decided to allow an additional 60 days. We are extending the comment period to April 20, 2015.

List of Subjects in 40 CFR Part 52

Environmental protection, Air pollution control, Incorporation by reference, Intergovernmental relations, Nitrogen dioxide, Ozone, Particulate matter, Reporting and recordkeeping requirements, Sulfur dioxides, Visibility, Interstate transport of pollution, Regional haze, Best available control technology.

Authority: 42 U.S.C. 7401 et seq.

Dated: January 14, 2015.
Wren Stenger,
Multimedia Planning and Permitting Division Director, Region 6.

[FR Doc. 2015-01164 Filed 1-22-15; 8:45 am]

BILLING CODE 6560-50-P